DEPARTMENT OF EDUCATION

Submission for OMB Review; Comment Request

AGENCY: Department of Education.

ACTION: Correction notice.

SUMMARY: On February 25, 2009, the Department of Education published a comment period notice in the Federal Register (Page 8515, Column 2) for the information collection, “Federal Family Education Loan (FFEL) Deferment Request Forms”. This notice amends the invitation for comment period for interested persons to March 27, 2009. The IC Clearance Official, Regulatory Information Management Services, Office of Management, hereby issues a correction notice as required by the Paperwork Reduction Act of 1995.

Dated: February 26, 2009.
Angela C. Arrington,
IC Clearance Official, Regulatory Information Management Services, Office of Management.

[FR Doc. E9-4462 Filed 3-2-09; 8:45 am]

BILLING CODE 4000-01-P